DEPARTMENT OF COMMERCE

National Oceanic and Atmospheric Administration

RIN 0648-XD824

Marine Mammals; File No. 18890

AGENCY: National Marine Fisheries Service (NMFS), National Oceanic and Atmospheric Administration (NOAA), Commerce.

ACTION: Notice; receipt of application.

SUMMARY: Notice is hereby given that the Alaska Department of Fish and Game (ADFG) [Responsible Party: Robert Small, Ph.D., 1255 West 8th Street, Juneau, Alaska 99811-5526] has applied in due form for a permit to conduct research on bowhead (Balaena mysticetus), gray (Eschrichtius robustus), humpback (Megaptera novaeangliae) and beluga (Delphinapterus leucas) whales.

DATES: Written, telefaxed, or email comments must be received on or before April 27, 2015.

ADDRESSES: The application and related documents are available for review by selecting “Records Open for Public Comment” from the “Features” box on the Applications and Permits for Protected Species (APPS) home page, https://apps.nmfs.noaa.gov, and then selecting File No. 18890 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Brendan Hurley, (301) 427-8401.

SUPPLEMENTARY INFORMATION: The subject permit is requested under the authority of the Marine Mammal Protection Act of 1972, as amended (MMPA; 16 U.S.C. 1361 et seq.), the regulations governing the taking and importing of marine mammals (50 CFR part 216), and the Endangered Species Act of 1973, as amended (ESA; 16 U.S.C. 1531 et seq.), the regulations governing the taking, importing, and exporting of endangered and threatened species (50 CFR 222-226).

The applicant proposes to take the above listed species by research activities within the coastal areas and open waters of the Bering, Chukchi, and Beaufort seas adjacent to Alaska and the eastern Beaufort Sea in Canada over a five year period. Research topics include population abundance (beluga), stock structure (bowhead, gray, humpback, and beluga), feeding areas and other important habitats (all species), migration routes (all species), behavior relative to human disturbance (all species), and to genetically identify individuals in order to determine survival and calving intervals (belugas). Takes per year, including incidental harassment, are as follows. For bowhead whales, take includes tagging with biopsy (up to 320), and biopsy only (up to 150). For gray whales take includes tagging with biopsy and photo-id (up to 90 per year) and biopsy with photo-id (up to 160), and photo-id only (up to 350). For humpback whales, take includes tagging with biopsy and photo-id (up to 35), biopsy with photo-id (up to 40), and photo-id (up to 50). For beluga whales the type of take includes aerial survey (up to 4,000), capture for tagging and sample collection (up to 200 takes per stock per year), boat approach for remote biopsy (up to 450 per stock per year). For all species, import and export activities will include biological samples for genetic, health, and dietary studies. Non-target species listed under the Endangered Species Act (ESA) that may be taken incidentally include up to 10 ringed seals. Other non-target species include annual incidental takes of up to 10 bearded, harbor and spotted seals and up to 10 beluga whales potentially taken during large whale (bowhead, gray and humpback) research.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 20, 2015.
Julia Harrison,
Chief, Permits and Conservation Division, Office of Protected Resources, National Marine Fisheries Service.

[FR Doc. 2015-06869 Filed 3-25-15; 8:45 am]

BILLING CODE 3510-22-P